ENVIRONMENTAL PROTECTION AGENCY

[ER-FRL-6641-3]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 4, 2003 (68 FR 16511).

Draft EISs

ERP No. D-AFS-B65010-VT Rating EC2, Greendale Project, Establishment of the Desired Condition stated in the Green Mountain National Forest Land and Resource Management Plan, Manchester Ranger District, Town of Western, Windor County, VT.

Summary: EPA expressed environmental concerns with respect to riparian zone management, herbicide use, wetland resource impacts and mitigation. ERP No. D-AFS-J65377-CO Rating EC2, Missionary Ridge Burned Area Timber Salvage Project, Timber Harvesting, San Juan National Forest north of Durango, LaPlata County, CO.

Summary: EPA has environmental concerns about soil erosion, disturbance, compaction; runoff and potential degradation of water quality and habitats in streams and reservoirs; sedimentation of streams and water storage reservoirs; fish and wildlife impacts to sensitive species; and the potential to establish and spread noxious weeds. EPA recommended restricting harvests to less sensitive lands with ground-based logging, no additional road construction and avoiding harvests in the Roadless Area.

ERP No. D-AFS-K61157-CA Rating LO, Interface Recreation Trails Project, Recreation Route System Development, Implementation, Stanislaus National Forest, Calaveras Ranger District, Calaveras County, CA.

Summary: EPA had no objections to the proposed recreational trail management plan.

ERP No. D-AFS-K65247-CA Rating EC2, Giant Sequoia National Monument Management Plan, Implementation, Establishment of Management Directions for Land and Resources, Sequoia National Forest, Fresno, Kern and Tulare Counties, CA.

Summary: EPA expressed environmental concerns that the preferred alternative replaces specific land allocations and standards and guidelines derived from the Sierra Nevada Forest Plan Amendment with less specific management guidelines, adversely impacting old forest habitat and water quality. In addition, the preferred alternative does not include specific road decommissioning targets and an implementation plan that responds to continuing environmental impacts identified in the Roads Analysis.

ERP No. D-FTA-J40159-CO Rating LO, West Corridor Project, Transportation Improvements in the Cities of Denver, Lakewood and Golden, Light Rail Transit (LET), Jefferson County, CO.

Summary: EPA has no significant environmental objections to the proposed project. However, EPA recommends that the Final EIS includes data on the safety of using light rail transit and buses versus automobiles for transportation as well as including the new air quality standards for PM2.5 and ozone.

ERP No. DS-BLM-K67051-NV Rating EC2, Millennium Expansion Project, New Facilities Construction and Existing Gold Mining Operations Expansion, Plan-of-Operations Approval, Winnemucca, Humboldt County, NV.

Summary: EPA expressed environmental concerns based on the potential ecological risks associated with the proposed closure strategies for the heap leach pads.

EPA recommended that the Final Supplemental EIS provide additional information regarding the fate and transport of contaminants from the spent ore and its drain down solutions, including metals uptake through the food chain, and more detailed information on the proposed closure process; existing water quality; impacts to air quality, including mercury emissions; and mitigation and monitoring measures.

Final EISs

ERP No. F-AFS-F65035-WI, Cayuga Project Area, Various Resource Management Projects, Implementation, Chequamegon-Nicolet National Forest, Great Divide Ranger District, Ashland County, WI.

Summary: EPA has no objections to the FEIS since design features will avoid and reduce potential impacts, and the project is consistent with the Forest Management Plan.

ERP No. F-AFS-J65373-MT, Canyon Lake Dam and Wyant Lake Dam Project, Access to their Facilities with Prescribe Terms and Conditions, Authorization, Canyon Creek Irrigation District (CCID), Bitterroot National Forest, Selway Bitterroot Wilderness, Ravalli County, MT.

Summary: EPA expressed environmental concerns about potential sedimentation and wetlands impacts that may occur during dam breaching and repair work, and noted the need for completed permits and authorizations prior to construction.

ERP No. F-FHW-E40787-AL, Memphis to Atlanta Corridor Study, Alabama State Line to I-65, Funding and U.S. Army COE Section 404 Permit Issuance, Colbert, Franklin, Lauderdale, Lawrence, Limestone and Morgan Counties, AL.

Summary: EPA continues to have environmental concerns regarding the preferred alternative, specially related to protect impacts associated with wetlands and aquatic resources, storm water, noise, relocations, and other natural habitat impacts. EPA recommends that commitments for wetland and aquatic resource mitigation be included in the ROD and mitigation for noise and relocation impacts should be considered further.

ERP No. F-FHW-E40793-00, Appalachian Corridor I-66 Highway Construction, US 23/119 south of Pikeville, KY eastward to the King Coal Highway southeast of Matewan, Funding and U.S. Army COE Section 404 Permit Issuance, Pike County, KY and Mingo County, WV.

Summary: EPA continues to have environmental concerns with the proposed project. Specifically, EPA recommends that avoidance and/or mitigation of wetlands and stream impacts should be monitored and addressed as the project progresses. Furthermore, EPA recommends that impacts to ecosystems from the conversion of woodlands should be monitored and addressed as necessary.

ERP No. F-NPS-E65061-FL, Biscayne National Park General Management Plan Amendment, Evaluation of the Effects of Several Alternatives for a Long-Term Management Plan, Stillsville, Biscayne National Park, Homestead, Miami-Dade County, FL.

Summary: EPA fully supports National Park Service's two leasing alternatives of the Stillsville structures with appropriate waste water and trash management.

ERP No. F-NPS-J61022-MT, Glacier National Park—Going-to-Sun Road Rehabilitation Plan to Protect and Preserve a National Historic Landmark, Waterton-Glacier International Peace Park, The World's First International Peace Park, A World Heritage Site, MT.

Summary: EPA did not identify any potential environmental impacts requiring substantive changes to the proposal and expressed lack of objections.

ERP No. F-SFW-E91013-FL, Proposed Rulemaking for: The Incidental Take of Small Numbers of Florida Manatees (Trichechus manatus latirostris) Resulting from Government Programs Related to Watercraft Access and Watercraft Operation in the State of Florida, FL.

Summary: EPA supports the U.S. Fish and Wildlife Service's Preferred Alternative that proposes legislation allowing unintentional taking of small numbers of Florida manatees in three regional populations.

ERP No. FA-FHW-J40030-UT, US-189, Wildwood to Heber Valley, between the junctions with UT-92 and US-40, Funding, Utah and Wasatch Counties, UT.

Summary: No formal comment letter was sent to the preparing agency.

ERP No. F-FHW-B50013-RI, Sakonnet River Bridge Rehabilitation or Replacement Project, Portsmouth & Tiverton, Newport County, RI.

Summary: EPA has no significant objections to the preferred alternative.

Dated: June 17, 2003.
Joseph C. Montgomery,
Director, NEPA Compliance Division, Office of Federal Activities.

[FR Doc. 03-15672 Filed 6-19-03; 8:45 am]

BILLING CODE 6560-50-P